DEPARTMENT OF COMMERCE

International Trade Administration

[A-570-832]

Pure Magnesium From the People's Republic of China: Final Results of Antidumping Duty Administrative Review; 2011-2012

AGENCY: Enforcement and Compliance, formerly Import Administration, International Trade Administration, Department of Commerce.

SUMMARY: On June 10, 2013, the Department of Commerce (“Department”) published the Preliminary Results of the 2011-2012 administrative review of the antidumping duty order on pure magnesium from the People's Republic of China (“PRC”).¹ The period of review (“POR”) is May 1, 2011, through April 30, 2012. This review covers one exporter of subject merchandise, Tianjin Magnesium Metal Co., Ltd. (“TMM”) and Tianjin Magnesium International Co., Ltd. (“TMI”) (collectively, “TMM/TMI”).² We invited interested parties to comment on our Preliminary Results. Based on our analysis of the comments received, we made certain changes to our margin calculations for TMM/TMI. The final dumping margin for this review is listed in the “Final Results” section below.

¹ See Pure Magnesium from the People's Republic of China: Preliminary Results of 2011-2012 Antidumping Duty Administrative Review, 78 FR 34646 (June 10, 2013) (“Preliminary Results”) and accompanying Memorandum to Ronald K. Lorentzen, Acting Assistant Secretary for Import Administration, titled “Decision Memorandum for Preliminary Results of 2011-2012 Antidumping Duty Administrative Review: Pure Magnesium from the People's Republic of China,” dated May 31, 2013 (“Preliminary Decision Memorandum”).

² In the Preliminary Results, the Department referred to “TMM/TMI” as “TMM/Company A,” due to the treatment of TMM's affiliation with TMI as business proprietary information. Subsequent to the Preliminary Results, TMM publicly disclosed its relationship with TMI, and the affiliation between the two parties was made public for the remainder of this proceeding. See Memorandum to the File, from Brendan Quinn, International Trade Compliance Analyst, titled, “Memorandum Regarding the Public Treatment of Affiliation Information Previously Bracketed as Proprietary,” dated June 25, 2013. This collapsing determination is sustained for the final results. See Memorandum to Christian Marsh, Deputy Assistant Secretary for Antidumping and Countervailing Duty Operations, titled, “2011-2012 Administrative Review of the Antidumping Duty Order on Pure Magnesium from the People's Republic of China: Preliminary Affiliation and Collapsing Memorandum,” dated May 31, 2013 (“Affiliation and Collapsing Memorandum”). The collapsing decision is unchanged for these final results. See Memorandum to Paul Piquado, Assistant Secretary for Enforcement and Compliance, titled, “Pure Magnesium from the People's Republic of China: Issues and Decision Memorandum for the Final Results of the 2011-2012 Administrative Review of the Antidumping Duty Order,” dated concurrently with this notice (“Issues and Decision Memorandum”) at Comment 5.

DATES: Effective Date: January 2, 2014.

FOR FURTHER INFORMATION CONTACT: Brendan Quinn or Andrew Medley, AD/CVD Operations, Office III, Enforcement and Compliance, International Trade Administration, U.S. Department of Commerce, 14th Street and Constitution Avenue NW., Washington, DC 20230; telephone: (202) 482-5848 or (202) 482-4987, respectively.

Background

On June 10, 2013, the Department published its Preliminary Results of the antidumping duty administrative review of pure magnesium from the PRC. Petitioner and TMM/TMI submitted publicly available information regarding surrogate values on July 15, 2013, and rebuttal surrogate value information on July 25, 2013.³ Petitioner and TMM/TMI submitted case briefs on August 8, 2013, and rebuttal briefs on August 15, 2013.⁴

³ Petitioner is the Aluminum Extrusions Fair Trade Committee.

⁴ At the Department's request, TMM/TMI removed certain new factual information from its rebuttal brief and resubmitted its revised rebuttal case brief on September 25, 2013.

As explained in the memorandum from the Assistant Secretary for Enforcement and Compliance, the Department exercised its discretion to toll deadlines for the duration of the closure of the Federal Government from October 1, through October 16, 2013.⁵ Therefore, all deadlines in this segment of the proceeding have been extended by 16 days. If the new deadline falls on a non-business day, in accordance with the Department's practice, the deadline will become the next business day. The revised deadline for the final results of this review is now December 26, 2013.

⁵ See Memorandum for the Record from Paul Piquado, Assistant Secretary for Enforcement and Compliance, titled “Deadlines Affected by the Shutdown of the Federal Government,” dated October 18, 2013.

Scope of the Order

Merchandise covered by the Order ⁶ is pure magnesium regardless of chemistry, form or size, unless expressly excluded from the scope of the order. Pure magnesium is a metal or alloy containing by weight primarily the element magnesium and produced by decomposing raw materials into magnesium metal.⁷ Pure magnesium products covered by the order are currently classifiable under Harmonized Tariff Schedule of the United States (“HTSUS”) subheadings 8104.11.00, 8104.19.00, 8104.20.00, 8104.30.00, 8104.90.00, 3824.90.11, 3824.90.19 and 9817.00.90. Although the HTSUS subheadings are provided for convenience and customs purposes, our written description of the scope is dispositive.

⁶ See Notice of Antidumping Duty Orders: Pure Magnesium From the People's Republic of China, the Russian Federation and Ukraine; Notice of Amended Final Determination of Sales at Less Than Fair Value: Antidumping Duty Investigation of Pure Magnesium From the Russian Federation, 60 FR 25691 (May 12, 1995) (“Order”).

⁷ See Issues and Decision Memorandum for a full description of the Scope of the Order.

Analysis of Comments Received

All issues raised in the case and rebuttal briefs filed by parties in this review are addressed in the Issues and Decision Memorandum, which is hereby adopted by this notice. A list of the issues that parties raised and to which we responded in the Issues and Decision Memorandum follows as an appendix to this notice. The Issues and Decision Memorandum is a public document and is on file electronically via Enforcement and Compliance's Antidumping and Countervailing Duty Centralized Electronic Service System (“IA ACCESS”). IA ACCESS is available to registered users at http://iaaccess.trade.gov and in the Central Records Unit, room 7046 of the main Department of Commerce building. In addition, a complete version of the Issues and Decision Memorandum can be accessed directly on the Internet at http://enforcement.trade.gov/frn/. The paper copy and electronic version of the Issues and Decision Memorandum are identical in content.

Separate Rates

In the Preliminary Results, we found that TMM/TMI demonstrated its eligibility for separate-rate status.⁸ No party has placed any evidence on the record of this review to contradict that finding. Therefore, we continue to find that TMM/TMI is eligible for separate-rate status.

⁸ See Preliminary Results, and accompanying Preliminary Decision Memorandum at 7.

Changes Since the Preliminary Results

Based on an analysis of the comments received, for the final results, the Department made the following change to TMM/TMI's margin calculation:

• Surrogate Value for Input Magnesium Scrap: We have used Serbian import data for “magnesium waste and scrap” to value the magnesium alloy scrap input.⁹

⁹ See Memorandum to the File from Andrew Medley, International Trade Compliance Analyst, titled “Final Results of the 2011-2012 Administrative Review of the Antidumping Duty Order on Pure Magnesium from the People's Republic of China: Surrogate Value Memorandum,” dated December 26, 2013 (“Surrogate Value Memorandum”), and Memorandum to the File from Andrew Medley, International Trade Compliance Analyst, titled “2011-2012 Administrative Review of the Antidumping Duty Order on Pure Magnesium from the People's Republic of China: Analysis of the Final Results Margin Calculation for TMM/TMI,” dated December 26, 2013 (“TMM/TMI Final Analysis Memorandum”). See also, Issues and Decision Memorandum at Comment 2.

• Surrogate Financial Ratios: We have used the 2011 financial statements for SOH Technologies Corp. and New Anchor Foundry Shop Co. to calculate average surrogate financial ratios.¹⁰

¹⁰ See Surrogate Value Memorandum and TMM/TMI Final Analysis Memorandum. See also, Issues and Decision Memorandum at Comment 3.

Final Results

We determine that the following weighted-average dumping margin exists for the POR:

Exporter | Weighted-average margin
Tianjin Magnesium International Co., Ltd ¹¹ | 0.03 percent (de minimis).

Assessment Rates

The Department will determine, and U.S. Customs and Border Protection (“CBP”) shall assess, antidumping duties on all appropriate entries covered by this review. The Department intends to issue assessment instructions to CBP 15 days after the publication date of these final results of this review. In accordance with 19 CFR 351.212(b)(1), we are calculating importer- (or customer-) specific assessment rates for the merchandise subject to this review. For any individually examined respondent whose weighted-average dumping margin is above de minimis (i.e., 0.50 percent), the Department will calculate importer-specific assessment rates on the basis of the ratio of the total amount of dumping calculated for the importer's examined sales and the total entered value of sales.¹² We will instruct CBP to assess antidumping duties on all appropriate entries covered by this review when the importer-specific assessment rate is above de minimis. Where either the respondent's weighted-average dumping margin is zero or de minimis, or an importer-specific assessment rate is zero or de minimis, we will instruct CBP to liquidate the appropriate entries without regard to antidumping duties.

¹¹ For these final results, the Department has collapsed Tianjin Magnesium International Co., Ltd. and Tianjin Magnesium Metal Co., Ltd. As a result of this collapsing, the cash deposit rate for shipments of pure magnesium from the People's Republic of China exported by Tianjin Magnesium International Co., Ltd. also applies to exports of this merchandise by Tianjin Magnesium Metal Co., Ltd.

¹² See Antidumping Proceedings: Calculation of the Weighted-Average Dumping Margin and Assessment Rate in Certain Antidumping Proceedings: Final Modification, 77 FR 8101 (February 14, 2012).

The Department recently announced a refinement to its assessment practice in NME cases.¹³ Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate. For a full discussion of this practice, see NME Antidumping Proceedings.

¹³ See Non-Market Economy Antidumping Proceedings: Assessment of Antidumping Duties, 76 FR 65694 (October 24, 2011) (“NME Antidumping Proceedings”).

Cash Deposit Requirements

The following cash deposit requirements will be effective upon publication of the final results of this administrative review for all shipments of the subject merchandise from the PRC entered, or withdrawn from warehouse, for consumption on or after the publication date, as provided for by section 751(a)(2)(C) of the Act: (1) For TMM/TMI, the cash deposit rate will be zero; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 111.73 percent; and (4) for all non-PRC exporters of subject merchandise which have not received their own rate, the cash deposit rate will be the rate applicable to the PRC exporter that supplied that non-PRC exporter. These deposit requirements shall remain in effect until further notice.

Notification to Importers

This notice also serves as a final reminder to importers of their responsibility under 19 CFR 351.402(f)(2) to file a certificate regarding the reimbursement of antidumping duties prior to liquidation of the relevant entries during this POR. Failure to comply with this requirement could result in the Department's presumption that reimbursement of the antidumping duties occurred and the subsequent assessment of double antidumping duties.

Notification to Interested Parties

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed within five days of the date of publication of this notice to parties in this proceeding, in accordance with 19 CFR 351.224(b).

We are issuing and publishing the final results and notice in accordance with sections 751(a)(1) and 777(i)(1) of the Act.

Dated: December 26, 2013.
Christian Marsh,
Deputy Assistant Secretary for Antidumping and Countervailing Duty Operations.

Appendix

Comment 1: Surrogate Country

Comment 2: Surrogate Value for Input Magnesium Scrap

Comment 3: Surrogate Financial Statements

Comment 4: Whether Alleged Translation Errors and Omissions Warrant an Adverse Inference

Comment 5: Whether the Department Should Collapse TMM and TMI and therefore Assign a Single AD Rate to the Collapsed Entity

Comment 6: Whether To Identify the Collapsed Affiliate in Customs Instructions

Comment 7: Updating the PRC-Wide Rate

[FR Doc. 2013-31412 Filed 12-31-13; 8:45 am]

BILLING CODE P